DEPARTMENT OF TRANSPORTATION

Federal Aviation Administration

14 CFR Part 39

[Docket No. FAA-2006-24815; Directorate Identifier 2006-NM-101-AD; Amendment 39-14608; AD 2006-11-04]

RIN 2120-AA64

Airworthiness Directives; Airbus Model A318, A319, A320, and A321 Airplanes

AGENCY: Federal Aviation Administration (FAA), Department of Transportation (DOT).

ACTION: Final rule; request for comments.

SUMMARY: The FAA is superseding an existing airworthiness directive (AD) that applies to certain Airbus Model A319, A320, and A321 airplanes. The existing AD currently requires a one-time ultrasonic inspection for certain airplanes, and repetitive detailed inspections for all airplanes, for cracking in the forward lug of the support rib 5 fitting of both main landing gear (MLG), and repair if necessary. The existing AD also provides for optional terminating actions. This AD removes the requirement for the one-time ultrasonic inspection and reduces the compliance time and repetitive interval for the detailed inspection of all airplanes. This AD also adds certain Airbus Model A318 airplanes to the applicability. This AD continues to provide optional terminating action for certain airplanes, as well as other optional methods of complying with the AD's requirements. This AD results from a new crack that was found in the forward lug of the MLG support rib 5 fitting. We are issuing this AD to detect and correct cracking in the forward lug of the MLG, which could result in failure of the lug and consequent collapse of the MLG during takeoff or landing.

DATES: This AD becomes effective June 7, 2006.

We must receive any comments on this AD by July 24, 2006.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this AD.

You may examine the contents of the AD docket on the Internet at http://dms.dot.gov, or in person at the Docket Management Facility, U.S. Department of Transportation, 400 Seventh Street, SW., Room PL-401, on the plaza level of the Nassif Building, Washington, DC. This docket number is FAA-2006-24815; the directorate identifier for this docket is 2006-NM-101-AD.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION:

Discussion

On June 6, 2005, the FAA issued AD 2005-12-07, amendment 39-14123 (70 FR 39559, July 8, 2005). That AD applies to certain Airbus Model A319, A320, and A321 series airplanes. That AD requires a one-time ultrasonic inspection for certain airplanes, and repetitive detailed inspections for all airplanes, for cracking in the forward lug of the support rib 5 fitting of both main landing gear (MLG), and repair if necessary. That AD also provides for optional terminating actions. That AD resulted from a report of a crack found in the forward lug of the right-hand MLG rib 5 fitting during greasing of both MLG pintle bearings. The actions specified in that AD are intended to find and fix cracking in the forward lug of the MLG, which could result in failure of the lug and consequent collapse of the MLG during landing.

Actions Since AD Was Issued

Since we issued that AD, a new crack was found in the forward lug of a MLG support rib, the same area subject to inspection under AD 2005-12-07. Investigation revealed the need to reduce the inspection threshold and repetitive interval of the detailed inspection currently required by the existing AD. It has also been determined that the ultrasonic inspection required by the existing AD for certain airplanes is no longer necessary because of the reduced threshold for the detailed inspection.

It has been determined that certain Airbus Model A318 airplanes should be subject to the same inspections required for Model A319, A320, and A321 airplanes by AD 2005-12-07.

The European Aviation Safety Agency (EASA) issued emergency airworthiness directive 2006-0069R1, dated April 7, 2006, to ensure the continued airworthiness of these airplanes in the European Union.

FAA's Determination and Requirements of This AD

These airplane models are manufactured in France and are type certificated for operation in the United States under the provisions of section 21.29 of the Federal Aviation Regulations (14 CFR 21.29) and the applicable bilateral airworthiness agreement. As described in FAA Order 8100.14A, “Interim Procedures for Working with the European Community on Airworthiness Certification and Continued Airworthiness,” dated August 12, 2005, the EASA has kept the FAA informed of the situation described above. We have examined the EASA's findings, evaluated all pertinent information, and determined that we need to issue an AD for products of this type design that are certificated for operation in the United States.

Therefore, we are issuing this AD to supersede AD 2005-12-07. This new AD continues to require repetitive detailed inspections for cracking in the forward lug of the support rib 5 fitting of both MLG at a reduced compliance time and repetitive interval. Inspections must be done in accordance with a method approved by the FAA or the EASA. Inspecting in accordance with Airbus A318/A319/A320/A321 Nondestructive Testing Manual (NTM) Chapter 51-90-00, revision dated February 1, 2003, is one approved method for performing the detailed inspections. If any cracking is found, this AD requires replacing the MLG fitting with a new fitting in accordance with a method approved by the FAA or the EASA.

This AD also provides for the following optional actions:

• Performing an ultrasonic inspection for cracking in the forward lug of the support rib 5 fitting of both MLG in accordance with a method approved by the FAA or the EASA, as an acceptable method of complying with this AD's inspection requirements. Doing the ultrasonic inspection in accordance with Airbus A318/A319/A320/A321 NTM Chapter 57-29-03, revision dated February 1, 2005 (for Airbus Model A318, A319, and A320 airplanes), or Chapter 57-29-04, revision dated May 1, 2005 (for Airbus Model A321 airplanes), as applicable, is one approved method for doing this ultrasonic inspection.

• For Airbus A319, A320, and A321 airplanes: Accomplishing optional terminating action in accordance with Airbus Service Bulletin A320-57-1118, dated September 5, 2002; or Revision 01, dated August 28, 2003.

• For Airbus A319, A320, and A321 airplanes: Repairing the forward lugs of the support rib 5 fitting of both MLG in accordance with a method approved by the FAA or the EASA, as an optional terminating action. Repairing in accordance with Airbus A319 Structural Repair Manual (SRM) Chapter 5.C., 57-26-13, or Airbus A320 SRM Chapter 5.D., 57-26-13, revisions dated November 1, 2004; or Airbus A321 SRM Chapter 5.D., 57-26-13, revision dated February 1, 2005; as applicable; is one approved method for doing this repair.

Differences Between the EASA's Emergency Airworthiness Directive and This AD

EASA's emergency airworthiness directive specifies that, if cracks are found, you must contact the manufacturer for instructions on replacing the MLG fitting before the next flight. However, this AD requires you to replace the MLG fitting in accordance with a method that we or the EASA (or its delegated agent) approve.

The EASA's emergency airworthiness directive permits further flight if a crack finding occurs but no crack is visible during accomplishment of the ultrasonic inspection (which is an optional method of complying with the inspection requirements of this AD). However, this AD does not permit further flight if there is a crack or a crack finding. We have determined that, because of the safety implications and consequences associated with cracking in the subject area, the MLG fitting must be replaced with a new fitting before further flight.

These differences have been coordinated with the EASA.

Clarification of Inspection Terminology

In this AD, the “detailed visual inspection” specified in the EASA's airworthiness directive is referred to as a “detailed inspection.” We have included the definition for a detailed inspection in a note in the AD.

Interim Action

We consider this AD interim action. We are currently considering requiring the optional modification of the lugs of the support rib 5 fitting of both MLG, which would constitute terminating action for the repetitive inspections required by this AD action. However, the planned compliance time for the modification would require us to provide notice and opportunity for prior public comment on the merits of the modification.

FAA's Determination of the Effective Date

An unsafe condition exists that requires the immediate adoption of this AD; therefore, providing notice and opportunity for public comment before the AD is issued is impracticable, and good cause exists to make this AD effective in less than 30 days.

Comments Invited

This AD is a final rule that involves requirements that affect flight safety and was not preceded by notice and an opportunity for public comment; however, we invite you to submit any relevant written data, views, or arguments regarding this AD. Send your comments to an address listed in the ADDRESSES section. Include “Docket No. FAA-2006-24815; Directorate Identifier 2006-NM-101-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act. We prepared a regulatory evaluation of the estimated costs to comply with this AD and placed it in the AD docket. See the ADDRESSES section for a location to examine the regulatory evaluation.

List of Subjects in 14 CFR Part 39

Air transportation, Aircraft, Aviation safety, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14123 (70 FR 39559, July 8, 2005) and adding the following new AD:

2006-11-04 Airbus: Docket No. FAA-2006-24815; Directorate Identifier 2006-NM-101-AD; Amendment 39-14608.

Effective Date

(a) This AD becomes effective June 7, 2006.

Affected ADs

(b) This AD supersedes AD 2005-12-07.

Applicability

(c) This AD applies to Airbus Model A318, A319, A320, and A321 airplanes, certificated in any category; except those on which Airbus Modification 32025 was done during production.

Unsafe Condition

(d) This AD results from a new crack that was found in the forward lug of the MLG support rib 5 fitting. We are issuing this AD to detect and correct cracking in the forward lug of the MLG, which could result in failure of the lug and consequent collapse of the MLG during takeoff or landing.

Compliance

(e) You are responsible for having the actions required by this AD performed within the compliance times specified, unless the actions have already been done.

Repetitive Detailed Inspections

(f) Within 8 days after the effective date of this AD, or before further flight after a hard landing, whichever is first: Perform a detailed inspection for cracking in the forward lug of the support rib 5 fitting of the left- and right-hand MLG, and, if any crack is found, replace the MLG fitting with a new fitting before further flight, in accordance with a method approved by either the Manager, International Branch, ANM-116, Transport Airplane Directorate, FAA; or the European Aviation Safety Agency (EASA) (or its delegated agent). Accomplishing the actions specified in the Airbus A318/A319/A320/A321 Nondestructive Testing Manual, Chapter 51-90-00, revision dated February 1, 2003, is one approved method for performing the detailed inspection. Repeat the inspection thereafter at intervals not to exceed 8 days, or before further flight after a hard landing, whichever is first.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Optional Inspection Method

(g) Performing an ultrasonic inspection for cracking in the forward lug of the support rib 5 fitting of the left- and right-hand MLG in accordance with a method approved by the Manager, International Branch, ANM-116, or the EASA (or its delegated agent), is an acceptable alternative method of compliance for the initial and repeat inspections required by paragraph (f) of this AD. Doing the actions specified in the Airbus A318/A319/A320/A321 Nondestructive Testing Manual, Chapter 57-29-03, revision dated February 1, 2005 (for Airbus Model A318, A319, and A320 airplanes), or Chapter 57-29-04, revision dated May 1, 2005 (for Airbus Model A321 airplanes), as applicable, is one approved method for performing the ultrasonic inspection.

Optional Terminating Action

(h) For Model A319, A320, and A321 airplanes; as identified in Airbus Service Bulletin A320-57-1118, dated September 5, 2002; or Revision 01, dated August 28, 2003: Modifying the lugs of the support rib 5 fitting of the left- and right-hand MLG and accomplishing all related investigative actions and all applicable corrective actions in accordance with Airbus Service Bulletin A320-57-1118, or Revision 01, constitutes terminating action for the requirements of this AD.

(i) For Model A319, A320, and A321 airplanes: Repair of the forward lugs of the support rib 5 fitting of the left- and right-hand MLG in accordance with a method approved by the Manager, International Branch, ANM-116, or the EASA (or its delegated agent), constitutes terminating action for the requirements of this AD. Doing the repair in accordance with Airbus A319 Structural Repair Manual Chapter 5.C., 57-26-13, or Airbus A320 Structural Repair Manual Chapter 5.D., 57-26-13; revisions dated November 1, 2004; or Airbus A321 Structural Repair Manual, Chapter 5.D., 57-26-13, revision dated February 1, 2005; as applicable; is one approved method.

Alternative Methods of Compliance (AMOCs)

(j)(1) The Manager, International Branch, ANM-116, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(k) EASA emergency airworthiness directive 2006-0069R1, dated April 7, 2006, also addresses the subject of this AD.

Material Incorporated by Reference

(l) None.

Issued in Renton, Washington, on May 15, 2006.
Kevin M. Mullin,
Acting Manager, Transport Airplane Directorate, Aircraft Certification Service.

[FR Doc. 06-4712 Filed 5-22-06; 8:45 am]

BILLING CODE 4910-13-P